DEPARTMENT OF ENERGY

Federal Energy Regulatory Commission

[Project No. 405-083]

Susquehanna Power Company and PECO Energy Power Company; Exelon Generation Company, LLC; Notice of Application for Transfer of License, and Soliciting Comments, Motions To Intervene, and Protests

October 15, 2008.

On September 30, 2008, Susquehanna Power Company and PECO Energy Power Company (transferor) and Exelon Generation Company, LLC (Transferee) filed an application, for transfer of license of the Conowingo Project, located on the Susquehanna River in Cecil and Hartford Counties, Maryland, and Lancaster and York Counties, Pennsylvania.

Applicants seek Commission approval to transfer the license for the Conowingo Project from Susquehanna Power Company and PECO Energy Power Company to Exelon Generation Company, LLC.

Applicant Contact: Mr. H. Alfred Ryan, Assistant General Counsel, Exelon Business Services Company, 2301 Market Street, Philadelphia, PA 19101, phone (215) 841-6855.

FERC Contact: Robert Bell, (202) 502-6062.

Deadline for filing comments, motions to intervene: November 17, 2008. Comments, motions to intervene, and notices of intent may be filed electronically via the Internet. See 18 CFR 385.2001(a)(1)(iii) and the instructions on the Commission's Web site under the “e-Filing” link. If unable to be filed electronically, documents may be paper-filed. To paper-file, an original and eight copies should be mailed to: Kimberly D. Bose, Secretary, Federal Energy Regulatory Commission, 888 First Street, NE., Washington, DC 20426. For more information on how to submit these types of filings please go to the Commission's Web site located at http://www.ferc.gov/filing-comments.asp. More information about this project can be viewed or printed on the “eLibrary” link of Commission's Web site at http://www.ferc.gov/docs-filing/elibrary.asp. Enter the docket number (P-405) in the docket number field to access the document. For assistance, call toll-free 1-866-208-3372.

Kimberly D. Bose,
Secretary.

[FR Doc. E8-25088 Filed 10-21-08; 8:45 am]

BILLING CODE 6717-01-P